FEDERAL COMMUNICATIONS COMMISSION

47 CFR Part 73

[DA 00-2681, MM Docket No. 00-97; RM-9865]

Digital Television Broadcast Services; Richmond, VA

AGENCY: Federal Communications Commission.

ACTION: Final rule.

SUMMARY: The Commission, at the request of Central Virginia Educational Telecommunications Corporation, licensee of noncommercial station WCVE-TV, substitutes DTV Channel *42 for station WCVE-TV's assigned DTV Channel *24a at Richmond, Virginia. See 65 FR 36808, June 12, 2000. DTV Channel *42 can be allotted to Richmond at coordinates ( 37-30-46 N. and 77-36-06 W.) with a power of 100, HAAT of 327 meters and with a DTV service population of 1097 thousand.

With this action, this proceeding is terminated.

DATE: Effective January 16, 2001.

FOR FURTHER INFORMATION CONTACT: Pam Blumenthal, Mass Media Bureau, (202) 418-1600.

SUPPLEMENTARY INFORMATION: This is a synopsis of the Commission's Report and Order, MM Docket No. 00-97, adopted November 30, 2000, and released December 1, 2000. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334. 336.

§ 73.622 [Amended]

2. Section 73.622(b), the Table of Digital Television Allotments under Virginia, is amended by removing DTV Channel *24d and adding DTV Channel *42 at Richmond.

Federal Communications Commission.
Barbara A. Kreisman,
Chief, Video Services Division, Mass Media Bureau.

[FR Doc. 00-30972 Filed 12-7-00; 8:45 am]

BILLING CODE 6712-01-U